DEPARTMENT OF THE TREASURY

Senior Executive Service; Departmental Offices Performance Review Board

AGENCY: Treasury Department.

ACTION: Notice of members of the Departmental Offices Performances Review Board.

SUMMARY: Pursuant to 5 U.S.C. 4314(c)(4), this notice announces the appointment of members of the Departmental Offices Performance Review Board (PRB). The purpose of this Board is to review and make recommendations concerning proposed performance appraisals, ratings, bonuses and other appropriate personnel actions for incumbents of SES positions in the Departmental Offices, excluding the Legal Division. The Board will perform PRB functions for other bureau positions if requested.

DATES: Membership is effective on the date of this notice.

FOR FURTHER INFORMATION CONTACT: Julia Markham and Sherri Coleman, Office of Executive Resources, 1500 Pennsylvania Avenue NW., ATTN: 1722 Eye Street, 9th Floor, Washington, DC 20220, Telephone: 202-622-1043.

SUPPLEMENTARY INFORMATION: Composition of Departmental Offices PRB: The Board shall consist of at least three members. In the case of an appraisal of a career appointee, more than half the members shall consist of career appointees. The names and titles of the Board members are as follows:

Names for Federal Register Publication

• Jordan, Everett, Deputy Assistant Secretary, Intelligence Community Integration

• Monroe, David, Director, Office of Fiscal Projections

• Banks, Carole, Director, Office of Accounting and Internal Controls

• Norris, Trevor, Associate Chief Human Capital Officer for Executive and Human Capital Services (Alternate Member)

• Rasetti, Lorenzo, Chief Financial Officer for Office of Financial Stability (Alternate Member)

• Kaplan, Michael, Deputy Assistant Secretary, Western Hemisphere and South Asia (Alternate Member)

Julia Markham,
Director, Office of Executive Resources.

[FR Doc. 2016-25271 Filed 10-18-16; 8:45 am]

BILLING CODE 4810-25-P